ENVIRONMENTAL PROTECTION AGENCY

[EPA-HQ-ORD-2018-0274; FRL-9985-64-ORD]

Webinar Workshop To Review Initial Draft Materials for the Ozone Integrated Science Assessment (ISA) for Health and Welfare Effects

AGENCY: Environmental Protection Agency (EPA).

ACTION: Notice of workshop.

SUMMARY: As part of the review of the air quality criteria and the primary (health-based) and secondary (welfare-based) National Ambient Air Quality Standards (NAAQS) for ozone, Environmental Protection Agency (EPA) is announcing a webinar workshop to evaluate initial draft materials for the Integrated Science Assessment (ISA) for ozone, which is being organized by EPA's National Center for Environmental Assessment (NCEA) within the Office of Research and Development. The workshop will be held over four days: October 29th, 31st, November 1st, and 5th, 2018. The workshop will be open to webinar attendance by interested public observers on a first-come, first-served basis.

DATES: The workshop will be held on Monday, October 29, 2018; Wednesday, October 31, 2018; Thursday, November 1, 2018; and Monday, November 5, 2018.

ADDRESSES: The workshop will be held by teleconference and webinar. The call-in number and website information for the webinar are available to registered participants. Please register by going to https://epa-naaqs-isa-ozone.eventbrite.com.

FOR FURTHER INFORMATION CONTACT: Please direct questions regarding workshop registration or logistics to Ms. Canden Byrd at EPA_NAAQS_Workshop@icf.com or by phone at 919-293-1660. Questions regarding the scientific and technical aspects of the workshop should be directed to Ms. Rebecca Daniels; telephone: 919-541-5734; email: daniels.rebecca@epa.gov.

SUPPLEMENTARY INFORMATION:

I. Summary of Information About the Workshop

Section 109(d)(1) of the Clean Air Act (CAA) requires the U.S. Environmental Protection Agency (EPA) to periodically review, and if appropriate, revise, the air quality criteria for each air pollutant listed under section 108 of the Act. Under the same provision, EPA is also to periodically review, and if appropriate, revise the NAAQS, based on the revised air quality criteria. As part of these reviews, NCEA assesses newly available scientific information and develops ISA documents that provide the scientific basis for the reviews of the NAAQS.

NCEA is holding this webinar workshop to inform EPA's evaluation of the scientific evidence for the review of the primary and secondary NAAQS for ozone. Section 109(b)(1) of the CAA defines primary NAAQS as standards “the attainment and maintenance of which in the judgment of the Administrator, based on such [air quality] criteria and allowing an adequate margin of safety, are requisite to protect the public health.” Under section 109(b)(2) of the CAA a secondary standard must “specify a level of air quality the attainment and maintenance of which in the judgment of the Administrator, based on such criteria, is requisite to protect the public welfare from any known or anticipated adverse effects associated with the presence of [the] pollutant in the ambient air.”

The purpose of the webinar workshop is to obtain review and discuss the scientific content of initial draft written materials prepared for the draft ozone ISA for health and welfare effects to help ensure that the ISA is up-to-date and focuses on the key evidence to inform the scientific understanding for the review of the primary and secondary NAAQS for ozone. Workshop sessions will include review and discussion of preliminary draft written materials on the atmospheric chemistry and background sources of ozone, welfare effects of ozone, human exposure to ozone and animal toxicological studies, and the health effects evidence from human clinical and epidemiological studies.

In addition, roundtable discussions will help identify key studies or concepts within each discipline to assist EPA in integrating relevant literature within and across disciplines. These preliminary materials are not being released to the public as external review drafts, but they will be used to guide workshop discussions. EPA is planning to release an external review draft ISA for health and welfare effects of ozone for review by the Clean Air Scientific Advisory Committee (CASAC) and the public in 2019.

II. Workshop Information

Members of the public may attend the webinar as observers. Space in the webinar may be limited, and reservations will be accepted on a first-come, first-served basis. Registration for the workshop is available online at https://epa-naaqs-isa-ozone.eventbrite.com.

Dated: October 12, 2018.
James Avery,
Acting Deputy Director, National Center for Environmental Assessment.

[FR Doc. 2018-23126 Filed 10-22-18; 8:45 am]

BILLING CODE 6560-50-P